SURFACE TRANSPORTATION BOARD

30-Day Notice of Intent To Seek Extension of Approval of Collection: Rail Depreciation Studies

AGENCY: Surface Transportation Board.

ACTION: Notice and request for comments.

SUMMARY: As required by the Paperwork Reduction Act of 1995 (PRA), the Surface Transportation Board (STB or Board) gives notice of its intent to seek approval from the Office of Management and Budget (OMB) for an extension of the collection of Rail Depreciation Studies, described below.

DATES: Comments on this information collection should be submitted by June 26, 2023.

ADDRESSES: Written comments should be identified as “Paperwork Reduction Act Comments, Surface Transportation Board, Rail Depreciation Studies.” Written comments for the proposed information collection should be submitted via www.reginfo.gov/public/do/PRAMain. This information collection can be accessed by selecting “Currently under Review—Open for Public Comments” or by using the search function. As an alternative, written comments may be directed to the Office of Management and Budget, Office of Information and Regulatory Affairs, Attention: Michael J. McManus, Surface Transportation Board Desk Officer: via email at oira_submission@omb.eop.gov; by fax at (202) 395-1743; or by mail to Room 10235, 725 17th Street NW, Washington, DC 20503.

Please also direct all comments to Chris Oehrle, PRA Officer, Surface Transportation Board, 395 E Street SW, Washington, DC 20423-0001, or to PRA@stb.gov. When submitting comments, please refer to “Paperwork Reduction Act Comments, Rail Depreciation Studies.” For further information regarding this collection, contact Pedro Ramirez at (202) 245-0333 or pedro.ramirez@stb.gov. Assistance for the hearing impaired is available through the Federal Relay Service at (800) 877-8339.

SUPPLEMENTARY INFORMATION: The Board previously published a notice about this collection in the Federal Register (88 FR 16512 (March 17, 2023)). That notice allowed for a 60-day public review and comment period. No comments were received.

Comments are requested concerning each collection as to (1) whether the particular collection of information is necessary for the proper performance of the functions of the Board, including whether the collection has practical utility; (2) the accuracy of the Board's burden estimates; (3) ways to enhance the quality, utility, and clarity of the information collected; and (4) ways to minimize the burden of the collection of information on the respondents, including the use of automated collection techniques or other forms of information technology, when appropriate. Submitted comments will be included and summarized in the Board's request for OMB approval.

Subjects: In this notice, the Board is requesting comments on the extension of the following information collection:

Description of Collection

Title: Rail Depreciation Studies.

OMB Control Number: 2140-0028.

Form Number: None.

Type of Review: Extension without change.

Respondents: Class I railroads.

Number of Respondents: Seven.

Estimated Time per Response: Approximately 250 hours per study (estimating that studies will require between 125 hours and 375 hours depending on the extent to which the carrier provides assistance to outside consultants performing the study for them).

Frequency of Response: Bi-annual. (Under 49 CFR part 1201, sections 4-1 to 4-4, the Board requires all Class I (large) carriers to submit depreciation studies no less frequently than every three years for equipment property and every six years for road property. That means that for any given six-year period, the Class I railroads must submit no fewer than three depreciation reports, or the equivalent of 0.5 depreciation reports per year.)

Total Annual Hour Burden: 875 hours (250 hours × 0.5 studies/year × 7 Class I railroads).

Total Annual “Non-Hour Burden” Cost: Approximately $210,000 per year. Board staff estimates that each biennial study will cost between $20,000 and $100,000 to reflect recent price escalation, which converts to an annual cost of approximately $10,000-$50,000 per year. Using an average cost ($30,000 per year X 7 Class I railroads), the non-hour burden cost is estimated to be approximately $210,000 per year.

Needs and Uses: Under 49 CFR part 1201, sections 4-1 to 4-4, the Board is required to identify those classes of property for which rail carriers may include depreciation charges under operating expenses, and the Board must also prescribe a rate of depreciation that may be charged to those classes of property. Under 49 U.S.C. 11145, Class I rail carriers are required to submit Depreciation Studies to the Board. Information in these studies is not available from any other source. The Board uses the information in these studies to prescribe depreciation rates. These depreciation rate prescriptions state the period for which the depreciation rates therein are applicable. Class I railroads apply the prescribed depreciation rates to their investment base to determine monthly and annual depreciation expense. This expense is included in the railroads' operating expenses, which are reported in their R-1 reports (OMB Control Number 2140-0009). Operating expenses are used to develop operating costs for application in various proceedings before the Board, such as in rate reasonableness cases and in the determination of railroad “revenue adequacy.”

Under the PRA, a Federal agency that conducts or sponsors a collection of information must display a currently valid OMB control number. A collection of information, which is defined in 44 U.S.C. 3502(3) and 5 CFR 1320.3(c), includes agency requirements that persons submit reports, keep records, or provide information to the agency, third parties, or the public. Section 3507(b) of the PRA requires, concurrent with an agency's submitting a collection to OMB for approval, a 30-day notice and comment period through publication in the Federal Register concerning each proposed collection of information, including each proposed extension of an existing collection of information.

Information from certain schedules contained in these reports is available at the Board's website at www.stb.gov by navigating to “Reports & Data” and clicking on “Economic Data.” Information in these reports is not available from any other source.

Dated: May 22, 2023.
Stefan Rice,
Clearance Clerk.

[FR Doc. 2023-11198 Filed 5-24-23; 8:45 am]

BILLING CODE 4915-01-P